DEPARTMENT OF THE INTERIOR

Bureau of Land Management

[LLORV00000-L10200000.DD0000; HAG 9-0053]

Meeting Notice for the John Day/Snake Resource Advisory Council (JDSRAC)

AGENCY: Bureau of Land Management (BLM), Vale District.

ACTION: Meeting notice for the John Day/Snake Resource Advisory Council (JDSRAC).

SUMMARY: At the JDSRAC meeting, we will welcome a new member, agree on its annual plan of work for 2009, elect new officers, and conduct the regular business of keeping member representatives informed about Federal actions. The meeting may include such topics as John Day Resource Management Plan, Wallowa-Whitman Weed Management, Forest and BLM Resource Management Planning, Restoration of the Lower Snake River, Transportation Planning, and other matters as may reasonably come before the council.

DATES: The JDSRAC meeting is scheduled for February 26, 2009. The meeting will take place at the Oxford Suites, 2400 SW Court, Pendleton, Oregon, from 8 a.m. to 4 p.m.

The meeting is open to the public. Public comment is scheduled for 1 p.m. to 1:15 p.m. (Pacific Time) February 26, 2008. For a copy of the information to be distributed to the Council members, please submit a written request to the Vale District Office 10 days prior to the meeting.

FOR FURTHER INFORMATION CONTACT: Additional information concerning the John Day/Snake Resource Advisory Council may be obtained from Mark Wilkening, Public Affairs Officer, Vale District Office, 100 Oregon Street, Vale, Oregon 97918, (541) 473-6218 or e-mail mark_wilkening@blm.gov.

Dated: January 14, 2009.
David R. Henderson,
District Manager.

[FR Doc. E9-1426 Filed 1-22-09; 8:45 am]

BILLING CODE 4310-33-P